DEPARTMENT OF DEFENSE

Department of the Air Force

[ARY-240801B-PL]

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive patent license to Polaris Sensor Technologies, Inc., a corporation duly organized, in the State of Alabama, having a place of business at 701 McMillian Way, Suite D, Huntsville, AL 35806. Such license is partially exclusive.

DATES: Written objections must be filed no later than fifteen (15) calendar days after the date of publication of this Notice.

ADDRESSES: Submit written objections to James F. McBride, Air Force Materiel Command Law Office, AFMCLO/JAZ, 2240 B Street, Area B, Building 11, Wright-Patterson AFB, OH 45433-7109; Facsimile: (937) 255-9318; or Email: afmclo.jaz.tech@us.af.mil. Include Docket ARX-210727A-PL in the subject line of the message.

FOR FURTHER INFORMATION CONTACT: James F. McBride, Air Force Materiel Command Law Office, AFMCLO/JAZ, 2240 B Street, Area B, Building 11, Wright-Patterson AFB, OH 45433-7109; Telephone: (937) 713-0229; Facsimile: (937) 255-9318; or Email: afmclo.jaz.tech@us.af.mil.

SUPPLEMENTARY INFORMATION:

Abstract of Patents and Patent Application(s)

I. An integrated microgrid imaging polarimeter comprises a repeating pattern of wiregrid polarizers in a new 2×4 array that improves image resolution and quality by increasing the spatial bandwidth available for each Stokes image despite that the new repeating pattern is larger than prior art 2×2 arrays. An example embodiment has polarization orientations of the wiregrid polarizers in each 2×4 array, beginning from an arbitrary top left polarizer of each array and continuing clockwise, as: 45 degrees; zero degrees; 315 degrees; 90 degrees; zero degrees; 45 degrees; 90 degrees; and 315 degrees. The disclosure includes an analysis showing development of the new 2×4 array and supporting its improved performance over prior art 2×2 arrays.

Intellectual Property

Microgrid arrangement for integrated imaging polarimeters. The invention is protected under U.S. Patent No. 9,857,226 B2. Such patent issued on January 2, 2018.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR part 404)

Tommy W. Lee,
Acting Air Force Federal Register Liaison Officer.

[FR Doc. 2025-03259 Filed 2-27-25; 8:45 am]

BILLING CODE 3911-44-P